DEPARTMENT OF COMMERCE

United States Patent and Trademark Office

Agency Information Collection Activities; Submission to the Office of Management and Budget (OMB) for Review and Approval; Generic Clearance for the Collection of Qualitative Feedback on Agency Service Delivery

AGENCY: United States Patent and Trademark Office, Department of Commerce.

ACTION: Notice of information collection; request for comment.

SUMMARY: The United States Patent and Trademark Office (USPTO), as required by the Paperwork Reduction Act of 1995, invites comments on the extension and revision of an existing information collection: 0651-0080 (Generic Clearance for the Collection of Qualitative Feedback on Agency Service Delivery). The purpose of this notice is to allow 60 days for public comment preceding submission of the information collection to OMB.

DATES: To ensure consideration, comments regarding this information collection must be received on or before June 21, 2021.

ADDRESSES: Interested persons are invited to submit written comments by any of the following methods. Do not submit Confidential Business Information or otherwise sensitive or protected information:

• Email: InformationCollection@uspto.gov. Include “0651-0080 comment” in the subject line of the message.

• Federal Rulemaking Portal: http://www.regulations.gov.

• Mail: Kimberly Hardy, Office of the Chief Administrative Officer, United States Patent and Trademark Office, P.O. Box 1450, Alexandria, VA 22313-1450.

FOR FURTHER INFORMATION CONTACT: Requests for additional information should be directed to Kimberly Hardy, Office of the Chief Administrative Officer, United States Patent and Trademark Office, P.O. Box 1450, Alexandria, VA 22313-1450; by telephone at 571-270-0968; or by email to informationcollection @uspto.gov with “0651-0080 comment” in the subject line. Additional information about this information collection can be found at http://www.reginfo.gov under “Information Collection Review.”

SUPPLEMENTARY INFORMATION:

I. Abstract

Executive Order 12862 (http://www.archives.gov/federal-register/executive-orders/pdf/12862.pdf) directs Federal agencies to provide services to the public that matches or exceeds the best services available in the private sector. In order to work continuously to ensure that its programs are effective and meet its customers' needs, the United States Patent and Trademark Office (hereafter “USPTO” or “the Agency”) proposes the following generic clearance to collect qualitative feedback on its service delivery. Qualitative feedback refers to information that provides useful insights on perceptions and opinions, but is not in the form of statistical surveys which yield quantitative results that can be generalized to the population of study.

The Agency will collect, analyze, and interpret information gathered to identify strengths and weaknesses of current services. Based on feedback received, the Agency will identify operational changes needed to improve programs and services. The solicitation of feedback will target areas such as: Timeliness, appropriateness, accuracy of information, courtesy, efficiency of service delivery, and resolution of issues with service delivery.

Collecting feedback will allow for the Agency to have a pulse on customer satisfaction. This feedback will provide for ongoing, collaborative, and actionable communication between the Agency and its customers and stakeholders and allow it to gather feedback in an efficient and timely manner. The information collected from Agency customers and stakeholders will help ensure users have an opportunity to convey their experience with USPTO programs. This information collection will also provide insights into customer or stakeholder perceptions, experiences, and expectations, which will allow the Agency to focus its attention on areas where communication, training, or changes in operations may be necessary.

This information collection covers a variety of methods used by USPTO to obtain qualitative feedback from the public. The estimated number of annual responses and burden hours being requested are based on the number of information collections we expect to conduct over the period of this clearance. Each specific request for clearance under this generic information collection will detail estimates for the following information: Respondent types, number of respondents, number of responses, time per response, burden hours, and associated costs.

II. Method of Collection

The methods of collection include, but are not limited to, in-person surveys, telephone interviews, questionnaires, mail and email survey, web-based products, focus groups, and comment cards.

III. Data

OMB Number: 0651-0080.

Form Number: None.

Type of Review: Extension and revision of a currently approved information collection.

Affected Public: Private Sector; Individuals or Households; State, Local or Tribal governments; Federal government.

Estimated Number of Respondents: 90,000 respondents.

Estimated Time per Response: Varied, dependent upon the data collection method used. The average response time will be 10 minutes per response.

Estimated Total Annual Respondent Burden Hours: 15,000 hours.

Estimated Total Annual Respondent (Hourly) Cost Burden: $2,989,650.

The estimated annual respondent costs are based on the number of estimated hours for the information collections we expect to conduct over the requested period of this clearance. The total hourly cost burden ($199.31) is determined by using a combined rate of attorney, paralegal, and pro se wages. The USPTO uses the mean rate for attorneys in private firms, estimated at $400 per hour, from data published in the 2019 Report of the Economic Survey from the American Intellectual Property Law Association (AIPLA).¹ The hourly rate for paralegals is estimated at $145 from data published in the 2018 Utilization and Compensation Survey by the National Association of Legal Assistants (NALA).² The pro se wage rate uses the mean hourly wage ($52.93) for physical scientists according to the data from the Bureau of Labor Statistics' Occupational Employment Statistics program (occupational code 19-2099) ³.

¹ https://www.aipla.org/detail/journal-issue/2019-report-of-the-economic-survey.

² https://www.nala.org/paralegals/research-and-survey-findings.

³ https://www.bls.gov/oes/current/oes192099.htm.

Estimated Total Annual (Non-hour) Respondent Cost Burden: $0. There are no capital start-up, maintenance, postage, recordkeeping costs, or any other fees associated with this information collection.

Respondent's Obligation: Voluntary.

IV. Request for Comments

The USPTO is soliciting public comments to:

(a) Evaluate whether the proposed collection of information is necessary for the proper performance of the functions of the Agency, including whether the information will have practical utility;

(b) Evaluate the accuracy of the Agency's estimate of the burden of the proposed collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. USPTO will include or summarize each comment in the request to OMB to approve this information collection. Before including an address, phone number, email address, or other personal identifying information in a comment, be aware that the entire comment—including personal identifying information—may be made publicly available at any time. While you may ask in your comment to withhold personal identifying information from public view, USPTO cannot guarantee that it will be able to do so.

Kimberly Hardy,
Information Collections Officer, Office of the Chief Administrative Officer, United States Patent and Trademark Office.

[FR Doc. 2021-08326 Filed 4-21-21; 8:45 am]

BILLING CODE 3510-16-P